DEPARTMENT OF ENERGY

Federal Energy Regulatory Commission

[Project No. 2090-003]

Green Mountain Power Corporation; Notice Granting Late Intervention

June 15, 2004.

On February 18, 2000, the Commission issued a notice of application accepted for filing and soliciting motions to intervene and protests for the Waterbury Hydroelectric Project No. 2090, located on the Little River in Washington County, Vermont. The notice established April 17, 2000, as the deadline for filing motions to intervene.

On March 25, 2002, the Vermont Agency of Natural Resources filed a motion to intervene. Granting the motion to intervene will not unduly delay or disrupt the proceeding, or prejudice other parties to it. Therefore, pursuant to Rule 214,¹ the motion to intervene filed by the Vermont Agency of Natural Resources is granted, subject to the Commission's rules and regulations.

¹ 18 CFR 385.214 (2003).

Magalie R. Salas,
Secretary.

[FR Doc. E4-1388 Filed 6-22-04; 9:15 am]

BILLING CODE 6717-01-P